DEPARTMENT OF AGRICULTURE

Forest Service

Northeast Yaak SEIS; Kootenai National Forest, Lincoln County, MT

AGENCY: Forest Service, USDA.

ACTION: Notice of intent to prepare a supplemental environmental impact statement.

SUMMARY: The Forest Service will prepare a Supplemental Environmental Impact Statement (SEIS) for the Northeast Yaak project. The Northeast Yaak project includes urban interface fuels treatments, vegetation management, watershed rehabilitation activities, wildlife habitat improvement, and access management changes, including road decommissioning. The project is located in the Northeast Yaak planning subunit on the Three Rivers Ranger District, Kootenai National Forest, Lincoln County, Montana, and northeast of Troy, Montana. The Notice of Availability of the Draft EIS for this project was published in the Federal Register (70 FR 14315) on March 25, 2005, and the notice of the Final EIS (70 FR 38131) on July 1, 2005. The Record of Decision on this project was administratively appealed to the Regional Forester per 36 CFR part 215. The Regional Forester reversed the decision on September 26, 2005, citing an inadequate cumulative effects analysis. A Supplemental EIS is being prepared to further address cumulative effects for the Northeast Yaak project.

DATES: Scoping is not required for supplements to environmental impact statements (40 CFR 1502.9(c)(4)). There was extensive public involvement in the development of the proposed action, the Draft EIS and the Final EIS, and the Forest Service is not inviting comments at this time.

ADDRESSES: The line officer responsible for this analysis is: Michael L. Balboni, District Ranger, Three Rivers Range District, 1437 Hwy 2, Troy, MT 59935.

FOR FURTHER INFORMATION CONTACT: Eric Dickinson, Team Leader, Three Rivers Ranger District, at (406) 295-4693.

SUPPLEMENTARY INFORMATION: The Northeast Yaak project area approximately 26 air miles northeast of Troy, Montana, within all or portions of T37N, R29W-R32W, and T36N, R30W-R31W, PMM, Lincoln County, Montana.

The purpose and need for this project is to: (1) Reduce fuels and the potential for crown fires in the urban interface and other forested areas; (2) manage for more diverse and sustainable vegetative conditions; (3) improve conditions in old growth habitat; (4) improve growing conditions and long-term management of overstocked sapling/pole stands; (5) improve and maintain winter range conditions; (6) improve the quality of grizzly bear habitat; (7) provide for motorized access to National Forest resources for recreation and to meet management objectives, while maintaining wildlife security; (8) continue to decrease cumulative sediment introduction to streams from roads; and (9) contribute forest products to the economy.

The Northeast Yaak Record of Decision (ROD) was released at the same time as the Final EIS and the legal notice of decision was published in the newspaper of record on June 18, 2005. The ROD selected Alternative C-Modified which authorized the following: (1) Approximately 1,860 acres of commercial timber harvest to reduce fuels, improve forest conditions, and contribute products to the economy (13.5 MMBF/33,000 CCF); (2) an estimated 350 acres of non-commercial fuels reduction treatments; (3) pre-commercial thinning on 286 acres; (4) watershed rehabilitation activities, including decommissioning on approximately 22 miles of road, and another 6.6 miles of road stabilized before being placed in grizzly bear core; (5) opening of 4 miles of the Vinal Lake Road #746 to improve motorized loop access, with a seasonal restriction, and other access management changes; and (6) a project-specific Forest Plan amendment to allow fuels reduction harvest in designated old growth to maintain old growth habitat.

The SEIS is intended to provide additional documentation of the cumulative effects analysis to the public, including information relating to past, ongoing, and reasonably foreseeable actions and the cumulative effects to natural resources.

A Draft SEIS is expected to be available for public review and comment in March 2006; and a Final SEIS in May 2006. The comment period for the Draft SEIS will be 45 days from the date the EPA publishes the notice of availability in the Federal Register.

The Forest Service believes it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also environmental objections that could be raised at the draft environmental impact statement stage may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider and respond to them in the Final SEIS. Reviewers may wish to refer to the Council on Environmental Quality regulations for implementing the procedural provisions of the National Environmental Policy Act at 40 CFR 1503.3 in addressing these points.

Responsible Official

Bob Castaneda, Forest Supervisor of the Kootenai National Forest, 1101 U.S. Highway 2 West, Libby, MT 59923, is the Responsible Official for this project. The Record of Decision will identify the land management activities to be implemented in the project area including urban interface fuels treatments, vegetation management, watershed rehabilitation activities, wildlife habitat improvement, access management changes, including road decommissioning, monitoring, and whether or not a Forest Plan amendment is necessary. The Forest Supervisor will make a decision on this project after considering comments and responses, environmental consequences discussed in the Final SEIS, and applicable laws, regulations and policies. The decision and supporting reasons will be documented in a Record of Decision.

Dated: February 6, 2006.
Bob Castaneda,
Forest Supervisor, Kootenai National Forest.

[FR Doc. 06-1298 Filed 2-10-06; 8:45 am]

BILLING CODE 3410-11-M